FEDERAL ELECTION COMMISSION

Sunshine Act Meeting

AGENCY: Federal Election Commission.

FEDERAL REGISTER CITATION OF PREVIOUS ANNOUNCMENT: 77 FR 44617 (July 30, 2012).

DATE AND TIME: Thursday, August 2, 2012 At 10 a.m.

PLACE: 999 E Street NW., Washington, DC (Ninth Floor).

STATUS: This meeting will be open to the public.

CHANGES IN THE MEETING: The following item has been added to the agenda:

Draft Advisory Opinion 2012-28:

CTIA—The Wireless Association.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Signed:
Shawn Woodhead Werth,
Secretary and Clerk of the Commission.

[FR Doc. 2012-18954 Filed 7-31-12; 11:15 am]

BILLING CODE 6715-01-P